DEPARTMENT OF COMMERCE

National Oceanic and Atmospheric Administration

50 CFR Part 622

[Docket No. 100217094-0115-01]

RIN 0648-AY57

Fisheries of the Caribbean, Gulf of Mexico, and South Atlantic; Reef Fish Fishery of the Gulf of Mexico; Red Snapper Management Measures

AGENCY: National Marine Fisheries Service (NMFS), National Oceanic and Atmospheric Administration (NOAA), Commerce.

ACTION: Proposed rule; request for comments.

SUMMARY: NMFS issues this proposed rule that would implement a regulatory amendment to the Fishery Management Plan for the Reef Fish Resources of the Gulf of Mexico (FMP) prepared by the Gulf of Mexico Fishery Management Council (Council). This proposed rule would increase the commercial and recreational quotas for red snapper and provide an estimated closure date for the 2010 recreational red snapper component of the Gulf of Mexico (Gulf) reef fish fishery. The intended effect of the proposed rule is to help achieve optimum yield (OY) by relaxing red snapper harvest limitations consistent with the findings of the recent stock assessment for this species.

DATES: Written comments must be received on or before April 14, 2010.

ADDRESSES: You may submit comments on the proposed rule identified by 0648-AY57 by any of the following methods:

• Electronic submissions: Submit electronic comments via the Federal e-Rulemaking Portal: http://www.regulations.gov. Follow the instructions for submitting comments.

• Mail: Peter Hood, Southeast Regional Office, NMFS, 263 13th Avenue South, St. Petersburg, FL 33701.

• Fax: 727-824-5308; Attention: Peter Hood.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required field if you wish to remain anonymous). You may submit attachments to electronic comments in Microsoft Word, Excel, WordPerfect, or Adobe PDF file formats only.

Copies of the regulatory amendment, which includes an environmental assessment and a regulatory impact review may be obtained from the Gulf of Mexico Fishery Management Council, 2203 North Lois Avenue, Suite 1100, Tampa, FL 33607; telephone 813-348-1630; fax 813-348-1711; e-mail gulfcouncil@gulfcouncil.org; or may be downloaded from the Council's Web site at http://www.gulfcouncil.org/.

FOR FURTHER INFORMATION CONTACT: Peter Hood, 727-824-5308.

SUPPLEMENTARY INFORMATION: The reef fish fishery of the Gulf of Mexico is managed under the FMP. The FMP was prepared by the Council and is implemented through regulations at 50 CFR part 622 under the authority of the Magnuson-Stevens Fishery Conservation and Management Act (Magnuson-Stevens Act).

Background

According to the updated stock assessment for Gulf red snapper, conducted in 2009, the stock is still overfished and rebuilding, but overfishing is projected to have ended in 2009. The rebuilding plan for Gulf red snapper was outlined in Amendment 22 to the FMP, and implemented through regulations in 2005. Actions taken in 2008 through Joint Amendment 27 to the FMP and Amendment 14 to the FMP for the Shrimp Fishery of the Gulf of Mexico revised the red snapper rebuilding strategy with the intent to end overfishing by 2009 or 2010 and rebuild red snapper by 2032 to the biomass levels that can support harvest of the maximum sustainable yield (MSY). The revised rebuilding plan outlined that after 2010, total allowable catch (TAC) would be increased consistent with a fishing mortality rate that produces MSY.

The Southeast Data, Assessment, and Review (SEDAR) update assessment for Gulf red snapper was conducted in August 2009, with the objective of updating the 2005 SEDAR 7 red snapper benchmark assessment. The 2009 assessment updated, reviewed, and incorporated all data included in the SEDAR 7 assessment, as well as new information that became available after the 2005 assessment. The results of the assessment update, as reviewed and approved by the Council's Scientific and Statistical Committee (SSC), projected overfishing to have ended in 2009. Therefore, NMFS may increase red snapper TAC to help achieve OY for the fishery. The SSC recommended an allowable biological catch (ABC) of 6.945 million lb (3.150 million kg) in 2010, which is greater than the current rebuilding plan's 2010 TAC of 5.00 million lb (2.27 million kg). The ABC recommended by the SSC also follows the guidance established in the National Standard 1 Guidelines (74 FR 3178, January 16, 2009). The SSC's recommended ABC is set 25 percent below the overfishing limit, to account for scientific uncertainty. Additionally, this harvest level is consistent with the Council's OY level.

The recreational and commercial allocations would remain consistent with those established in Amendment 1 to the FMP. Therefore, 51 percent of the TAC would be allocated for the commercial quota and 49 percent of the TAC would be allocated for the recreational quota.

Management Measures Contained in this Proposed Rule

The Gulf red snapper regulatory amendment would set the TAC for 2010 and subsequent fishing years at 6.945 million lb (3.150 million kg). Based on the current commercial and recreational allocations, the TAC would be implemented through this proposed rule by setting the commercial quota for Gulf red snapper at 3.542 million lb (1.607 million kg) and the recreational quota at 3.403 million lb (1.544 million kg). NMFS has made a preliminary projection that this increased TAC would result in an estimated 54-day fishing season for the recreational sector, which corresponds to a preliminary closure date of July 24, 2010. Preliminary estimates indicate the recreational fishery exceeded its quota in 2009 by more than 1.7 million lb (0.77 million kg), and therefore, under the existing 2.45 million lb (1.11 million kg) recreational quota and assuming similar effort and catch rates for 2010, the recreational fishing season would have been 34 to 40 days. However, under the proposed 3.403 million lb (1.544 million kg) quota, the recreational fishing season is preliminarily projected to remain open for 54 days. The Magnuson-Stevens Act requires NMFS to close the recreational red snapper fishery in Federal waters when the quota is met or projected to be met. NMFS will provide a final projection of the 2010 recreational season closure date after finalized 2009 recreational landings data are available. The final closure date of the 2010 Gulf red snapper recreational season based on final data will be announced in the final rule for this action. These management measures would achieve the goal of National Standard 1 of the Magnuson-Stevens Act, which states that conservation and management measures shall prevent overfishing while achieving, on a continuing basis, the optimum yield for the fishery.

Classification

Pursuant to section 304(b)(1)(A) of the Magnuson-Stevens Act, the NMFS Assistant Administrator has determined that this proposed rule is consistent with the regulatory amendment, other provisions of the Magnuson-Stevens Act, and other applicable law, subject to further consideration after public comment.

This proposed rule has been determined to be not significant for purposes of Executive Order 12866.

The Chief Counsel for Regulation of the Department of Commerce certified to the Chief Counsel for Advocacy of the Small Business Administration that this proposed rule, if adopted, would not have a significant economic impact on a substantial number of small entities. The factual basis for this determination is as follows:

The purpose of this proposed rule is to set the red snapper total allowable catch and resulting recreational and commercial quotas consistent with the goals and objectives of the Council's red snapper rebuilding plan. The Magnuson-Stevens Act provides the statutory basis for this proposed rule.

This proposed rule, if implemented, would be expected to directly affect commercial and for-hire fishing vessels that harvest red snapper in the Gulf of Mexico. Based on logbook records, for the period 2007-2008, an average of 312 commercial vessels per year recorded red snapper landings in the Gulf. The total average annual ex-vessel revenues from all logbook-recorded harvests from all species for these vessels during this period was approximately $28.943 million (2008 dollars), of which approximately $9.435 million came from red snapper. The average annual total revenue per vessel for these vessels during this period was approximately $93,000 (2008 dollars).

Some fleet activity occurs in the Gulf commercial reef fish fishery. Based on permit data, the maximum number of permits reported to be owned by the same entity is six, though additional permits may be linked through other affiliations which cannot be identified with current data. Using the average revenue per vessel provided above, the average annual estimated maximum combined revenues for this entity would be approximately $558,000 (2008 dollars).

The for-hire fleet is comprised of charterboats, which charge a fee on a vessel basis, and headboats, which charge a fee on an individual angler (head) basis. A Gulf reef fish for-hire permit is required to harvest red snapper in the Gulf. On December 23, 2009, there were 1,266 active Gulf reef fish for-hire permits. An active permit is a non-expired permit. Expired reef fish for-hire permits may not be actively fished, but are renewable for up to one year after expiration. Because of the extended renewal period, numerous permits may be expired but renewable at any given time of the year. It is estimated that the total number of permits (and associated vessels) active for some portion of the entire calendar year is a few hundred more than the number of permits active on any given date. Although the permit does not distinguish between headboats and charter boats, an estimated 79 headboats and 1187 charter boats operate in the Gulf. It cannot be determined with available data how many of the for-hire vessels permitted to operate in the Gulf reef fish fishery harvest red snapper, so all permitted vessels are assumed to comprise the universe of potentially affected vessels. The average charterboat is estimated to earn approximately $88,000 (2008 dollars) in annual revenues, while the average headboat is estimated to earn approximately $461,000 (2008 dollars).

The Small Business Administration has established size criteria for all major industry sectors in the U.S. including fish harvesters. A business involved in fish harvesting is classified as a small business if it is independently owned and operated, is not dominant in its field of operation (including its affiliates), and has combined annual receipts not in excess of $4.0 million (NAICS code 114111, finfish fishing) for all its affiliated operations worldwide. For for-hire vessels, the other qualifiers apply and the revenues threshold is $7.0 million (NAICS code 713990, recreational industries). Based on the average revenue estimates provided above, all commercial and for-hire vessels expected to be directly affected by this proposed rule are determined for the purpose of this analysis to be small business entities.

This proposed rule would not establish any new reporting, record-keeping, or other compliance requirements. No duplicative, overlapping, or conflicting Federal rules have been identified. This proposed rule, if implemented, would be expected to result in an increase in commercial red snapper harvests and a closure date of the recreational red snapper fishing season later in the season than the status quo. The increase in commercial red snapper harvests would be expected to increase commercial annual ex-vessel revenues by as much as $3 million, while a later closure date of the recreational red snapper fishing season would be expected to increase annual net operating revenues to for-hire businesses by as much as $3.8 million. Therefore, all of the expected direct economic impacts of this proposed rule on small entities, if implemented, are positive. No reduction in the revenues or profits of affected entities would be expected.

Because this proposed rule, if implemented, is not expected to have any direct economic impact on any small entities, an initial regulatory flexibility analysis is not required and none has been prepared.

List of Subjects in 50 CFR Part 622

Fisheries, Fishing, Puerto Rico, Reporting and recordkeeping requirements, Virgin Islands.

Dated: March 25, 2010.
Samuel D. Rauch III,
Deputy Assistant Administrator for Regulatory Programs, National Marine Fisheries.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.42, paragraphs (a)(1)(i) and (a)(2)(i) are revised to read as follows:

§ 622.42 Quotas.

* * * * *

(a) * * *

(1) * * *

(i) Red snapper—3.542 million lb (1.607 million kg), round weight.

* * * * *

(2) * * *

(i) Recreational quota for red snapper. The recreational quota for red snapper is 3.403 million lb (1.544 million kg), round weight.

* * * * *

[FR Doc. 2010-7064 Filed 3-29-10; 8:45 am]

BILLING CODE 3510-22-P